DEPARTMENT OF HEALTH AND HUMAN SERVICES

Food and Drug Administration

Biological Response Modifiers Advisory Committee; Notice of Meeting

AGENCY: Food and Drug Administration, HHS.

ACTION: Notice.

This notice announces a forthcoming meeting of a public advisory committee of the Food and Drug Administration (FDA). The meeting will be open to the public.

Name of Committee: Biological Response Modifiers Advisory Committee.

General Function of the Committee: To provide advice and recommendations to the agency on FDA's regulatory issues.

Date and Time: The meeting will be held on July 13, 2000, 8:30 a.m. to 6 p.m. and July 14, 2000, 8:30 a.m. to 3 p.m.

Location: Hilton Hotel, 620 Perry Pkwy., Gaithersburg, MD.

Contact Person: Gail Dapolito or Rosanna Harvey (HFM-71), Food and Drug Administration, 1401 Rockville Pike, Rockville, MD 20852, 301-827-0314, or FDA Advisory Committee Information Line, 1-800-741-8138 (301-443-0572 in the Washington, DC area), code 12389. Please call the Information Line for up-to-date information on this meeting.

Agenda: On July 13 and 14, 2000, the committee will discuss product development issues related to human stem cells as cellular replacement therapies for neurological disorders.

Procedure: Interested persons may present data, information, or views, orally or in writing, on issues pending before the committee. Written submissions may be made to the contact person by June 30, 2000. Oral presentations from the public will be scheduled between approximately 9 a.m. and 10 a.m. on July 14, 2000. Time allotted for each presentation may be limited. Those desiring to make formal oral presentations should notify the contact person before June 30, 2000, and submit a brief statement of the general nature of the evidence or arguments they wish to present, the names and addresses of proposed participants, and an indication of the approximate time requested to make their presentation.

Notice of this meeting is given under the Federal Advisory Committee Act (5 U.S.C. app. 2).

Dated: June 9, 2000.
Linda A. Suydam,
Senior Associate Commissioner.

[FR Doc. 00-15431 Filed 6-19-00; 8:45 am]

BILLING CODE 4160-01-F